DEPARTMENT OF COMMERCE

Patent and Trademark Office

[Docket No.: PTO-C-2017-0030]

Notice of Roundtable on Intellectual Property and Trade Shows

AGENCY: United States Patent and Trademark Office, Department of Commerce.

ACTION: Notice of public roundtable.

SUMMARY: The United States Patent and Trademark Office (USPTO) will host a roundtable discussion at its headquarters in Alexandria, Virginia, on October 18, 2017, on addressing intellectual property infringements at trade shows.

DATES: The public roundtable will be held on Wednesday, October 18, 2017, from 9 a.m. to 4:30 p.m.

ADDRESSES: The public roundtable will be held at the United States Patent and Trademark Office, Global Intellectual Property Academy, Madison Building (East), Second Floor, 600 Dulany Street, Alexandria, Virginia 22314. All major entrances to the building are accessible to people with disabilities.

FOR FURTHER INFORMATION CONTACT: For further information regarding the public meeting, please contact Peter N. Fowler or Kortney Hammonds at the Office of Policy and International Affairs, by telephone at (571) 272-9300, by email at peter.fowler@uspto.gov, or kortney.hammonds@uspto.gov, or by postal mail addressed to: Mail Stop OPIA, United States Patent and Trademark Office, P.O. Box 1450, Alexandria, VA 22313-1450, ATTN: Peter Fowler or Kortney Hammonds. Please direct all media inquiries to the Office of the Chief Communications Officer, USPTO, at (571) 272-8400.

SUPPLEMENTARY INFORMATION: Trade shows can provide opportunities for both the willful and unintentional infringement of intellectual property rights. The transient nature of these events presents challenges for intellectual property rights holders to address an infringement, discover the infringement, take action against it, or, in some cases, even determine against whom to assert their legal rights.

The USPTO is hosting a public roundtable to discuss approaches, strategies, and effective practices for addressing the kinds of infringement that most often occur at trade fairs and shows, including the infringement of copyright, design, patent, and trademark. Topics to be explored will include: How U.S. Government agencies and the courts can be used effectively when intellectual property rights are infringed at trade shows; legal measures and strategies available to rights holders before, during, and after a trade show; and recent and anticipated trends and challenges faced by rights holders and trade show operators. Speakers drawn from academia, civil and criminal litigation practice, rights holders and industry associations, and the U.S. Government will offer insights, observations, and experiences, on intellectual property infringements at trade shows. They will discuss how to deal with the challenges presented at trade shows, including legal strategies employed in removing allegedly infringing goods from a trade show venue.

Instructions and Information on the Public Roundtable

The public roundtable will be held at the United States Patent and Trademark Office, Global Intellectual Property Academy, Madison Building (East), Second Floor, 600 Dulany Street, Alexandria, Virginia 22314, and will begin at 9 a.m. and end at 4:30 p.m. The event will also be webcast and offered via interactive viewing at USPTO satellite offices in Dallas, Denver, Detroit, and San Jose. The agenda will be available a week before the meeting on the USPTO Web site, https://www.uspto.gov/learning-and-resources/ip-policy/enforcement/intellectual-property-and-trade-shows. Registration will be available at the same URL. Attendees may also register at the door thirty (30) minutes prior to the beginning of the meeting, however seating will be limited to no more than 90 persons, and priority will be given to those who preregister. Attendees at all locations, as well as those online, will have an opportunity to submit questions to the speakers, which will be addressed, time permitting, during the question and answer period of each panel session.

The public roundtable will be physically accessible to people with disabilities. Individuals requiring accommodation, such as sign language interpretation or other ancillary aids, should communicate their needs to Kortney Hammonds in the Office of Policy and International Affairs, by telephone at (571) 272-1500, by email at kortney.hammonds@uspto.gov, or by postal mail addressed to: Mail Stop OPIA, United States Patent and Trademark Office, P.O. Box 1450, Alexandria, VA 22313-1450, ATTN: Kortney Hammonds, at least seven (7) business days prior to the date of the public roundtable.

Dated: September 8, 2017.
Joseph Matal,
Performing the Functions and Duties of the Under Secretary of Commerce for Intellectual Property and Director of the United States Patent and Trademark Office.

[FR Doc. 2017-19488 Filed 9-13-17; 8:45 am]

BILLING CODE 3510-16-P